UNITED STATES POSTAL SERVICE BOARD OF GOVERNORS

Sunshine Act Meeting

Times and Dates: 1 p.m., Monday, July 1, 2002; 8:30 a.m., Tuesday, July 2, 2002.

Place: Anchorage, Alaska, at the Hotel Captain Cook, 4th at K Street, in the Fore Deck Room, Lobby Level.

Status: July 1—1 p.m. (Closed); July 2—8:30 a.m. (Open).

Matters to Be Considered:

Monday, July 1—1 p.m. (Closed)

1. Financial Performance.

2. Strategic Planning.

3. Personnel Matters and Compensation Issues.

Tuesday, July 2—8:30 a.m. (Open)

1. Minutes of the Previous Meeting, June 3-4, 2002.

2. Remarks of the Postmaster General and CEO.

3. Quarterly Report on Financial Performance.

4. Quarterly Report on Service Performance.

Tuesday, July 1—8:30 a.m. (Open) [continued]

5. Report on the Alaska District.

6. Tentative Agenda for the August 5-6, 2002, meeting in Washington, DC.

Contact Person For More Information: William T. Johnstone, Secretary of the Board, U.S. Postal Service, 475 L'Enfant Plaza, SW., Washington, DC 20260-1000. Telephone (202) 268-4800.

William T. Johnstone,
Secretary.

[FR Doc. 02-16016 Filed 6-20-02; 2:35 pm]

BILLING CODE 7710-12-M